DEPARTMENT OF DEFENSE

Office of the Secretary

Membership of the Performance Review Board

AGENCY: Missile Defense Agency (MDA), DoD.

ACTION: Notice.

This notice announces the appointment of the members of the Performance Review Board (PRB) of the Missile Defense Agency. The publication of PRB membership is required by 5 U.S.C. 4314(c)(4).

The PRB provides fair and impartial review of Senior Executive Service performance appraisals and makes recommendations regarding performance ratings and performance scores to the Director, MDA.

DATES: Effective Date: September 2, 2009.

FOR FURTHER INFORMATION CONTACT: Sandy Rawdon, MDA SES Program Manager, Missile Defense Agency, Arlington, Virginia, (703) 693-1575.

SUPPLEMENTARY INFORMATION: In accordance with 5 U.S.C. 4314(c)(4), the following executives are appointed to the MDA PRB:

RDML Joseph A. Horn, USN

Mr. David Altwegg

Ms. Nancy Morgan

Mr. Richard Matlock

Ms. Mary Lacey.

Executives listed will serve a one-year term, effective September 2, 2009.

Dated: September 15, 2009.
Patricia L. Toppings,
OSD Federal Register Liaison Officer, Department of Defense.

[FR Doc. E9-22796 Filed 9-21-09; 8:45 am]

BILLING CODE 5001-06-P